DEPARTMENT OF ENERGY

Electricity Advisory Committee

AGENCY: Office of Electricity Delivery and Energy Reliability, Department of Energy,

ACTION: Notice of open meeting.

SUMMARY: This notice announces a meeting of the Electricity Advisory Committee. The Federal Advisory Committee Act requires that public notice of these meetings be announced in the Federal Register.

DATES: Wednesday, September 13, 2017, 12:00 p.m.-5:55 p.m. EST; Thursday, September 14, 2017 8:00 a.m.-12:50 p.m. EST.

ADDRESSES: National Rural Electric Cooperative Association, 4301 Wilson Blvd., Arlington, VA 22203.

FOR FURTHER INFORMATION CONTACT: Matthew Rosenbaum, Office of Electricity Delivery and Energy Reliability, U.S. Department of Energy, Forrestal Building, Room 8G-017, 1000 Independence Avenue SW., Washington, DC 20585; Telephone: (202) 586-1060 or email: matthew.rosenbaum@hq.doe.gov.

SUPPLEMENTARY INFORMATION:

Purpose of the Committee: The Electricity Advisory Committee (EAC) was re-established in July 2010, in accordance with the provisions of the Federal Advisory Committee Act (FACA), as amended, 5 U.S.C., App.2, to provide advice to the U.S. Department of Energy (DOE) in implementing the Energy Policy Act of 2005, executing the Energy Independence and Security Act of 2007, and modernizing the nation's electricity delivery infrastructure. The EAC is composed of individuals of diverse background selected for their technical expertise and experience, established records of distinguished professional service, and their knowledge of issues that pertain to electricity.

Tentative Agenda: The meeting of the EAC is expected to include panels or presentations on the National Academy of Sciences grid resiliency report, modern grid-networked measurement and monitoring, cybersecurity, and the multiyear plan for energy sector cybersecurity. Additionally, the meeting is expected to include an update on the programs and initiatives of the DOE's Office of Electricity Delivery and Energy Reliability and a discussion of the plans and activities of the Smart Grid Subcommittee, Power Delivery Subcommittee, and Energy Storage Subcommittee. The meeting is also expected to include an update and associated discussion on the 60 day study exploring issues central to the long-term reliability of the electric grid.

Tentative Agenda: September 13, 2017

12:00 p.m.-1:00 p.m. EAC Leadership Committee Meeting

12:00 p.m.-1:00 p.m. Registration

12:00 p.m.-1:00 p.m. Swearing in for New Special Government Employee Members

1:00 p.m.-1:30 p.m. Ethics Briefing

1:30 p.m.-1:45 p.m. Welcome, Introductions, Developments since the June 2017 Meeting

1:45 p.m.-2:00 p.m. Update on the DOE Office of Electricity Delivery and Energy Reliability's Programs and Initiatives

2:00 p.m.-3:00 p.m. Presentation on National Academy of Sciences Grid Resiliency Report

3:00 p.m.-3:15 p.m. Break

3:15 p.m.-5:15 p.m. Panel Session: Modern Grid-networked Measurement and Monitoring

5:15 p.m.-5:45 p.m. Discussion of Potential Next Steps for Modern Grid-networked Measurement and Monitoring Topic

5:45 p.m.-5:55 p.m. Wrap-up and Adjourn Day 1 of September 2017 Meeting of the EAC

Tentative Agenda: September 14, 2017

8:00 a.m.-9:50 a.m. Panel Session: Cybersecurity

9:50 a.m.-10:00 a.m. Break

10:00 a.m.-11:10 a.m. Presentation on Multiyear Plan for Energy Sector Cybersecurity

11:10 a.m.-12:00 p.m. Update on 60 Day Study & EAC Discussion

12:00 p.m.-12:10 p.m. EAC Smart Grid Subcommittee Activities and Plans

12:10 p.m.-12:20 p.m. EAC Power Delivery Subcommittee Activities and Plans

12:20 p.m.-12:35 p.m. EAC Energy Storage Subcommittee Activities and Plans

12:35 p.m.-12:40 p.m. Public Comments

12:40 p.m.-12:50 p.m. Wrap-up and Adjourn September 2017 Meeting of the EAC

The meeting agenda may change to accommodate EAC business. For EAC agenda updates, see the EAC Web site at: http://energy.gov/oe/services/electricity-advisory-committee-eac.

Public Participation: The EAC welcomes the attendance of the public at its meetings. Individuals who wish to offer public comments at the EAC meeting may do so on Thursday, September 14, 2017, but must register at the registration table in advance. Approximately five minutes will be reserved for public comments. Time allotted per speaker will depend on the number who wish to speak but is not expected to exceed three minutes. Anyone who is not able to attend the meeting, or for whom the allotted public comments time is insufficient to address pertinent issues with the EAC, is invited to send a written statement to Mr. Matthew Rosenbaum.

You may submit comments, identified by “Electricity Advisory Committee Open Meeting,” by any of the following methods:

• Mail/Hand Delivery/Courier: Matthew Rosenbaum, Office of Electricity Delivery and Energy Reliability, U.S. Department of Energy, Forrestal Building, Room 8G-017, 1000 Independence Avenue SW., Washington, DC 20585.

• Email: matthew.rosenbaum@hq.doe.gov. Include “Electricity Advisory Committee Open Meeting” in the subject line of the message.

• Federal eRulemaking Portal: http://www.regulations.gov. Follow the instructions for submitting comments. Instructions: All submissions received must include the agency name and identifier. All comments received will be posted without change to http://energy.gov/oe/services/electricity-advisory-committee-eac, including any personal information provided.

• Docket: For access to the docket, to read background documents or comments received, go to http://energy.gov/oe/services/electricity-advisory-committee-eac.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure.

DOE is responsible for the final determination concerning disclosure or nondisclosure of the information and for treating it in accordance with the DOE's Freedom of Information regulations (10 CFR 1004.11).

Note: Delivery of the U.S. Postal Service mail to DOE may be delayed by several weeks due to security screening. DOE, therefore, encourages those wishing to comment to submit comments electronically by email. If comments are submitted by regular mail, the Department requests that they be accompanied by a CD or diskette containing electronic files of the submission.

Minutes: The minutes of the EAC meeting will be posted on the EAC Web page at http://energy.gov/oe/services/electricity-advisory-committee-eac. They can also be obtained by contacting Mr. Matthew Rosenbaum at the address above.

Issued in Washington, DC on August 23, 2017.
LaTanya R. Butler,
Deputy Committee Management Officer.

[FR Doc. 2017-18281 Filed 8-28-17; 8:45 am]

BILLING CODE 6450-01-P